DEPARTMENT OF TRANSPORTATION

National Highway Traffic Safety Administration

49 CFR Part 57l

[Docket No. NHTSA-2003-16487 Notice 1]

Federal Motor Vehicle Safety Standards; Denial of Petition For Rulemaking

AGENCY: National Highway Traffic Safety Administration (NHTSA), Department of Transportation (DOT).

ACTION: Denial of petition for rulemaking.

SUMMARY: Based on the agency's evaluation, NHTSA denies a petition for rulemaking from the Alliance of Automobile Manufacturers (AAM) to amend S4(d) and S4(f)(4) of Federal Motor Vehicle Safety Standard (FMVSS) No. 214, “Side impact protection,” which specifies the travel distance of the loading device in the quasi-static door crush test. NHTSA believes that the rulemaking is unnecessary because granting the proposed amendments would not result in a substantive change in the performance requirements of the standard nor change the way that both the manufacturers and the agency may test the vehicle.

FOR FURTHER INFORMATION CONTACT: The following persons at the National Highway Traffic Safety Administration, 400 Seventh Street, SW., Washington, DC 20590:

For non-Legal Issues: Mr. Philip Oh, Office of Crashworthiness Standards, NVS-112, telephone (202) 493-0195, facsimile (202) 493-2290, electronic mail: philip.oh@nhtsa.dot.gov.

For Legal Issues: Ms. Deirdre Fujita, Office of the Chief Counsel, NCC-112, telephone (202) 366-2992, facsimile (202) 366-3820.

SUPPLEMENTARY INFORMATION:

Background

Sections S3 and S4 of Federal Motor Vehicle Standard (FMVSS) No. 214, “Side impact protection,” establish quasi-static door crush resistance requirements and the associated test procedures. The current specifications require the door crush test device to displace over a full 457 millimeters (mm) (18 inches), the average force to be calculated at 152 mm (6 inches) and 305 mm (12 inches), and the peak crush resistance to be determined over the entire 457 mm (18 inches) of crush. Currently, the minimum requirement for the peak crush resistance is 3.5 times the curb weight of the vehicle or 53,397 Newtons (N) (12,000 lb.), whichever is less (2 times or 31,148 N (7,000 lb.) if the seats are removed).

AAM Petition

On August 27, 2002, AAM submitted a petition for rulemaking concerning the travel distance of the loading device in the quasi-static door crush test. The test procedure described in S4(d) of FMVSS No. 214 requires the loading device in the quasi-static door crush test to be displaced over a full 457 mm (18 inches) of travel. AAM asserts that for vehicles with stiffer side door structures designed for dynamic side impact protection, the requirement for the peak crush resistance is often attained well before 457 mm (18 inches) of travel. Therefore, if the requirement for the peak crush resistance is attained before the full 457 mm (18 inches) of travel, AAM contends that any further door crush test is unnecessary. In addition, AAM points out that NHTSA's Office of Vehicle Safety Compliance's (OVSC) test procedure already allows for the flexibility in its testing. The test procedure states that “if after 12 inches of loading device travel, the peak crush resistance has been obtained, the test may be stopped if prior approval has been obtained from the OVSC Contracting Officer Technical Representative (COTR).”

AAM petitioned the agency to amend S4(d) by rewording the second sentence as: If the peak crush resistance of either S3.1.3 or S3.2.3 is not attained within 12 inches of loading device travel, continue the loading device application until the peak crush resistance is attained or until 18 inches of travel is reached, whichever comes first.” Also, to be consistent with the proposed change to S4(d), AAM petitioned that S4(f)(4) also be amended as: “The peak crush resistance is the largest force recorded over the entire distance traveled to comply with S4(d).” AAM believes that these amendments would improve the objectivity and practicability of the standard and are consistent with motor vehicle safety.

Analysis

NHTSA agrees that vehicles with stiff side door structures often attain the peak resistance requirement before 457 mm (18 inches) of travel. However, the suggested amendments would not lead to a substantive change to the standard's performance requirements and do not warrant the agency resources that would be needed to undertake rulemaking on this matter. As stated in the standard, the door is to be crushed a full 457 mm (18 inches) to allow for the required peak crush resistance to be attained. To comply with the safety standard, manufacturers are required to ensure this performance requirement is met using the test procedure written in the regulatory text. However, the agency does not regulate the procedure used by manufacturers to ensure compliance of the vehicle. Manufacturers may choose to stop the test procedure at any point if they believe it is sufficient to ensure compliance to the requirements of the standard using the regulatory text test procedure.

As AAM noted, OVSC may stop the test if, after 305 mm (12 inches) of crush, the peak resistance requirement is met and prior approval from the COTR is obtained. OVSC may stop the test if they believe enough data has been gathered to determine compliance or non-compliance under the regulatory test procedure. For example, OVSC may elect to do this to preserve the remaining structure of the vehicle for other compliance test purposes. However, under the same test procedure, OVSC may instead elect to conduct the test over the full 457 mm (18 inches) for agency research or other purposes.

AAM argued that the peak force is often attained within 305 mm (12 inches) of loading device travel, and that continuation of side structure loading after the peak force is reached results in unrepresentative deformation and loading of the door components. AAM did not provide any data to substantiate this claim, nor does NHTSA have any. In any event, the agency does not see why the deformation of the vehicle subsequent to cessation of the test is relevant to the petitioner's requested amendment.

In accordance with 49 CFR part 552, this completes the agency's review of the petition for rulemaking. NHTSA believes that the suggested amendments would not change the performance requirements, nor change the way that both the manufacturers and the agency may test the vehicle. Thus, after considering the allocation of agency resources and agency priorities, NHTSA has decided that the rulemaking requested by the petitioner is not warranted. Accordingly, rulemaking on the petition is denied.

Authority: 49 U.S.C. 30162; delegation of authority at 49 CFR 1.50 and 501.8.

Issued on: December 17, 2003.
Stephen R. Kratzke,
Associate Administrator for Rulemaking.

[FR Doc. 03-31490 Filed 12-19-03; 8:45 am]

BILLING CODE 4910-59-P